FEDERAL COMMUNICATIONS COMMISSION

47 CFR Part 73

[DA 00-833; MM Docket No. 99-8; RM-9433, RM-9692]

Radio Broadcasting Services; Mt. Washington and Jefferson, NH, Newry, ME

AGENCY: Federal Communications Commission.

ACTION: Final rule.

SUMMARY: The Commission, at the request of North Country Radio, allots Channel 247A to Jefferson, NH, as the community's first local aural service and denies the allotment of Channel 247A to Mt. Washington, NH, as the community's second local aural service. This action also dismisses the counterproposal filed by Barry P. Lunderville to allot Channel 247A to Newry, ME, as the community's first local aural service, because of his failure to comply with the subscription and verification requirements of Section 1.52 of the Commission's Rules. See 64 FR 5626, February 4, 1999. Channel 247A can be allotted to Jefferson in compliance with the Commission's mileage separation requirements, with respect to domestic allotments, with a site restriction of 5.1 kilometers (3.2 miles) southeast, at coordinates 44-23-40 NL; 71-25-15 WL, to avoid a short-spacing to Station WGMT, Channel 249C3, Lyndon, VT. Use of these coordinates will not negate the short-spacing to unoccupied and unapplied-for Channel 247C1 at both Sherbrook, Quebec, and Thetford-Mines, Quebec, Canada. Since Jefferson is located within 320 kilometers (200 miles) of the U.S.-Canadian border, concurrence by the Canadian government in the allotment, as a specially negotiated, short-spaced allotment, has been requested but has not yet been received. However, rather than delay any further the opportunity to file applications for this channel, we will allot Channel 247A to Jefferson at this time. If a construction permit is granted prior to the receipt of formal concurrence in the allotment by the Canadian Government, the construction permit will include the following condition: “Operation with the facilities specified herein is subject to modification, suspension, or termination without right to hearing, if found by the Commission to be necessary in order to conform to the Canada-United States FM Broadcast Agreement or if objected to by Industry Canada.” A filing window for Channel 247A at Jefferson will not be opened at this time. Instead, the issue of opening a filing window for this channel will be addressed by the Commission in a subsequent order.

DATES: Effective May 30, 2000.

FOR FURTHER INFORMATION CONTACT: Leslie K. Shapiro, Mass Media Bureau, (202) 418-2180.

SUPPLEMENTARY INFORMATION: This is a synopsis of the Commission's Report and Order, MM Docket No. 99-8, adopted April 5, 2000, and released April 14, 2000. The full text of this Commission decision is available for inspection and copying during normal business hours in the FCC Reference Center (Room 239), 445 12th Street, SW, Washington, DC. The complete text of this decision may also be purchased from the Commission's copy contractor, International Transcription Services, Inc., (202) 857-3800, 1231 20th Street, NW, Washington, DC 20036.

List of Subjects in 47 CFR Part 73

Radio broadcasting.

Part 73 of Title 47 of the Code of Federal Regulations is amended as follows:

PART 73—[AMENDED]

1. The authority citation for Part 73 continues to read as follows:

Authority: 47 U.S.C. 154, 303, 334. 336.

§ 73.202 [Amended]

2. Section 73.202(b), the Table of FM Allotments under New Hampshire, is amended by adding Jefferson, Channel 247A.

Federal Communications Commission.
John A. Karousos,
Chief, Allocations Branch, Policy and Rules Division, Mass Media Bureau.

[FR Doc. 00-10924 Filed 5-2-00; 8:45 am]

BILLING CODE 6712-01-P